DEPARTMENT OF THE INTERIOR

National Park Service

[NPS-WASO-NAGPRA-15090;PPWOCRADN0-PCU00RP14.R50000]

Notice of Intent To Repatriate Cultural Items: U.S. Department of Agriculture, Forest Service, Coconino National Forest, Flagstaff, AZ

AGENCY: National Park Service, Interior.

ACTION: Notice.

SUMMARY: The U.S. Department of Agriculture (USDA), Forest Service, Coconino National Forest, in consultation with the appropriate Indian tribes, has determined that the cultural items listed in this notice meet the definition of unassociated funerary objects. Representatives of any Indian tribe not identified in this notice that wish to claim these cultural items should submit a written request to the USDA Forest Service, Southwestern Region. If no additional claimants come forward, transfer of control of the cultural items to the Indian tribes stated in this notice may proceed.

DATES: Representatives of any Indian tribe not identified in this notice that wish to claim these cultural items should submit a written request with information in support of the claim to the USDA Forest Service, Southwestern Region, at the address in this notice by April 23, 2014.

ADDRESSES: Dr. Frank E. Wozniak, NAGPRA Coordinator, Southwestern Region, USDA Forest Service, 333 Broadway Blvd. SE., Albuquerque, NM 87102, telephone (505) 842-3238, email fwozniak@fs.fed.us.

SUPPLEMENTARY INFORMATION: Notice is hereby given in accordance with the Native American Graves Protection and Repatriation Act (NAGPRA), 25 U.S.C. 3005, of the intent to repatriate cultural items under the control of the USDA Forest Service, Coconino National Forest, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

All cultural items described below were removed from lands administered by the USDA Forest Service in Coconino County, AZ, between 1934 and 1955. These items were collected by private individuals without permission or knowledge of the USDA Forest Service. Records kept by the individuals provide substantive evidence that the items were recovered in association with human remains from prehistoric archeological sites. The human remains were not collected, so these items are considered unassociated funerary objects. In 1981, these items were donated to a private museum, where they are currently housed, with the USDA Forest Service retaining legal control of the items. The site names listed below were used by the private individuals and are not official Forest Service site designations, except where noted.

In 1934, one ceramic vessel was removed from Big Ruin and one ceramic vessel was removed from Blind Ruin. In 1935, 10 ceramic vessels were removed from Dead Robin and one turquoise bead and one turquoise pendant were removed from Top of Hill. In 1936, five ceramic vessels, two shells and one painted conus shell were removed from an unnamed site. In 1937, one ceramic vessel and one bone awl were removed from an unnamed site. In 1938, five ceramic vessels were removed from an unnamed site and one ceramic vessel and one shell bracelet were removed from Two Handles. In 1939, one ceramic vessel was removed from Cold Banana, three ceramic vessels were moved from Big Tub, and two ceramic vessels were removed from Saddle (known as New Caves Hill by the USDA Forest Service). In 1940, 15 ceramic vessels were removed from 53 Ruin and nine ceramic vessels were removed from L.F. 1. In 1941, nine ceramic vessels, one shell necklace, and one projectile point were removed from Broken Fence and one shell object was removed from Keaster #1. In 1942, two ceramic vessels were removed from Cremation Ruin. In 1945, two ceramic vessels were removed from Mikes Mortuary. In 1946, 12 ceramic vessels were removed from 3/29/36 Ruin and one ceramic vessel was removed from Mikes Mortuary. In 1950, two ceramic vessels were removed from Old Caves Hill (the USDA Forest Service site name). In 1951, eight ceramic vessels were removed from Lost Plate. In 1952, 69 unassociated funerary objects were removed from an unnamed site; these consist of five ceramic vessels, four carved or worked bone items, 18 turquoise pendants, four shell necklaces, two strands of turquoise and argillite beads, five turquoise tesserae, four carved shell medallions, one stone medallion, one copper bead, three mosaic pieces, three stone or shell beads, three nose plugs, six crystals, two shells, one projectile point, one painted bark wand, and six unmodified rocks. In 1955, two ceramic vessels were removed from Stone Crusher and one ceramic vessel was removed from Big Ruin.

The USDA Forest Service completed a cultural affiliation assessment in 1996 for prehistoric archeological remains in the Coconino County, AZ, region. The unassociated funerary objects listed in this notice were removed from sites related to the Northern Sinagua archeological culture. Based on evidence relevant to archeological, anthropological, biological, geographical, oral traditions/folklore and kinship, the USDA Forest Service established that the Northern Sinagua were most closely affiliated with the modern Hopi Tribe of Arizona.

Determinations Made by the USDA Forest Service

Officials of the USDA Forest Service have determined that:

• Pursuant to 25 U.S.C. 3001(3)(B), the 172 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Representatives of any Indian tribe not identified in this notice that wish to claim these cultural items should submit a written request with information in support of the claim to: Dr. Frank E. Wozniak, NAGPRA Coordinator, Southwestern Region, USDA Forest Service, 333 Broadway Blvd. SE., Albuquerque, NM 87102, telephone (505) 842-3238, email fwozniak@fs.fed.us, by April 23, 2014. After that date, if no additional claimants have come forward, transfer of control of the unassociated funerary objects to the Hopi Tribe of Arizona may proceed.

The USDA Forest Service is responsible for notifying the Hopi Tribe of Arizona and the Zuni Tribe of the Zuni Reservation, New Mexico, that this notice has been published.

Dated: February 20, 2014.
Melanie O'Brien,
Acting Manager, National NAGPRA Program.

[FR Doc. 2014-06271 Filed 3-21-14; 8:45 am]

BILLING CODE 4312-50-P